NATIONAL SCIENCE FOUNDATION

Sunshine Act Meetings

The National Science Board's (NSB) Committee on Science and Engineering Policy (SEP) hereby gives notice of the scheduling of a videoconference for the transaction of National Science Board business pursuant to the National Science Foundation Act and the Government in the Sunshine Act.

TIME AND DATE: Friday, July 19, 2024, from 3:00 p.m.-4:00 p.m. Eastern.

PLACE: The meeting will be held by videoconference through the National Science Foundation, 2415 Eisenhower Avenue, Alexandria, VA 22314. Members of the public can observe this meeting through a YouTube livestream. The YouTube link will be available from the NSB meetings web page— https://www.nsf.gov/nsb/meetings/index.jsp.

STATUS: Open.

MATTERS TO BE CONSIDERED: Chair's opening remarks; Discussion and vote on Detailed Narrative Outline for Indicators 2026 thematic report: Discovery.

CONTACT PERSON FOR MORE INFORMATION: Point of contact for this meeting is Chris Blair, cblair@nsf.gov, 703/292-7000.

Ann E. Bushmiller,
Senior Counsel to the National Science Board.

[FR Doc. 2024-15571 Filed 7-11-24; 11:15 am]

BILLING CODE 7555-01-P